DEPARTMENT OF ENERGY

Federal Energy Regulatory Commission

[Project No. 13288-000]

Riverbank Ogdensburg, LLC; Notice of Preliminary Permit Application Accepted for Filing and Soliciting Comments, Motions To Intervene, and Competing Applications

December 8, 2008.

On September 23, 2008, Riverbank Ogdensburg, LLC filed an application, pursuant to section 4(f) of the Federal Power Act (FPA), proposing to study the feasibility of the Ogdensburg Pumped Storage Project to be located on the St. Lawrence River in St. Lawrence County, New York.

The proposed project would consist of: (1) The St. Lawrence River as an upper reservoir; (2) an underground lower reservoir with an elevation of 1,800 feet below MSL and a storage capacity of 3,775 acre-feet; (3) four 13 foot diameter, 2,000 foot long, concrete and steel penstocks; (4) an underground powerhouse containing four pump/turbine units with a total installed capacity of 1,000 MW; (5) a 345 kV, 18.6 mile long transmission line; and (6) appurtenant facilities. The annual production would be 2,190 GWh which would be sold to a local utility.

Applicant Contact: William S. Helmer, Esq., 194 Washington Ave., Suite 315, Albany, New York 12210 (518) 689-3570.

FERC Contact: Kelly Houff (202) 502-6393.

Deadline for filing comments, motions to intervene: 60 days from the issuance of this notice. Comments, motions to intervene, notices of intent and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13288) in the docket number field to access the document. For assistance, call toll-free 1-866-208-3372.

Kimberly D. Bose,
Secretary.

[FR Doc. E8-29472 Filed 12-11-08; 8:45 am]

BILLING CODE 6717-01-P